NATIONAL SCIENCE FOUNDATION

National Science Board; Sunshine Act Meetings; Notice

The National Science Board, pursuant to NSF regulations (45 CFR part 614), the National Science Foundation Act, as amended (42 U.S.C. 1862n-5), and the Government in the Sunshine Act (5 U.S.C. 552b), hereby gives notice in regard to the scheduling of a meeting for the transaction of National Science Board business, as follows:

DATE AND TIME: Thursday, December 10, 2015 at 1:30-2:00 p.m. EST.

SUBJECT MATTER: Chair's opening remarks; discussion of candidates proposed for the NSB Class of 2016—2022 by the ad hoc Committee on Nominations (NOMS).

STATUS: Closed.

This meeting will be held by teleconference originating at the National Science Board Office, National Science Foundation, 4201 Wilson Blvd., Arlington, VA 22230.

Please refer to the National Science Board Web site (www.nsf.gov/nsb) for information or schedule updates, or contact: Ronald Campbell, (jrcampbe@nsf.gov), National Science Foundation, 4201 Wilson Blvd., Arlington, VA 22230.

Kyscha Slater-Williams,
Program Specialist.

[FR Doc. 2015-30880 Filed 12-3-15; 4:15 pm]

BILLING CODE 7555-01-P